DEPARTMENT OF DEFENSE

Defense Acquisition Regulations System

[Docket Number DARS-2014-0035]

Information Collection Requirement; Defense Federal Acquisition Regulation Supplement (DFARS); Small Business Programs

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through October 31, 2014. DoD proposes that OMB extend its approval for use for three additional years beyond the current expiration date.

DATES: DoD will consider all comments received by August 8, 2014.

ADDRESSES: You may submit comments, identified by OMB Control Number 0704-0386, using any of the following methods:

Federal eRulemaking Portal: http://www.regulations.gov. Follow the instructions for submitting comments.

Email: dfars@mail.mil. Include OMB Control Number 0704-0386 in the subject line of the message.

Fax: 571-372-6094.

Mail: Defense Acquisition Regulations System, Attn: Ms. Lee Renna, OUSD(AT&L)DPAP(DARS), 3060 Defense Pentagon, Room 3B941, Washington, DC 20301-3060.

Comments received generally will be posted without change to http://www.regulations.gov, including any personal information provided.

FOR FURTHER INFORMATION CONTACT: Ms. Lee Renna, 571-372-6095. The information collection requirements addressed in this notice are available on the World Wide Web at: http://www.acq.osd.mil/dpap/dars/dfarspgi/current/index.html. Paper copies are available from Ms. Lee Renna, OUSD(AT&L)DPAP(DARS), 3060 Defense Pentagon, Room 3B941, Washington, DC 20301-3060.

SUPPLEMENTARY INFORMATION:

Title, Associated Form, and OMB Number: Defense Federal Acquisition Regulation Supplement (DFARS), Small Business Programs; OMB Control Number 0704-0386.

Needs and Uses: DoD needs this information to improve administration under the small business subcontracting program and to evaluate a contractor's past performance in complying with its subcontracting plan.

Affected Public: Businesses or other for-profit and not-for profit institutions.

Annual Burden Hours: 41.

Number of Respondents: 41.

Responses per Respondent: 1.

Annual Responses: 41.

Average Burden per Response: Approximately 1 hour.

Frequency: On occasion.

Summary of Information Collection

This information collection includes requirements relating to DFARS part 219, Small Business Programs. The information collection requirement at DFARS 252.219-7003, Small Business Subcontracting Plan, becomes necessary when: (1) A prime contractor has identified specific small business concerns in its subcontracting plan; and (2) subsequent to award substitutes one of the small businesses identified in its subcontracting plan with a firm that is not a small business. The intent of this information collection is to alert the contracting officer of this situation.

Amy G. Williams,
Deputy Director, Defense Acquisition Regulations System.

[FR Doc. 2014-13356 Filed 6-6-14; 8:45 am]

BILLING CODE 5001-06-P